NUCLEAR REGULATORY COMMISSION

[NRC-2021-0001]

Sunshine Act Meetings

TIME AND DATE: Weeks of December 27, 2021, January 3, 10, 17, 24, 31, 2022.

PLACE: Commissioners' Conference Room, 11555 Rockville Pike, Rockville, Maryland.

STATUS: Public.

MATTERS TO BE CONSIDERED:

Week of December 27, 2021

There are no meetings scheduled for the week of December 27, 2021.

Week of January 3, 2022—Tentative

There are no meetings scheduled for the week of January 3, 2022.

Week of January 10, 2022—Tentative

There are no meetings scheduled for the week of January 10, 2022.

Week of January 17, 2022—Tentative

There are no meetings scheduled for the week of January 17, 2022.

Week of January 24, 2022—Tentative

Thursday, January 27, 2022

9:00 a.m. Strategic Programmatic Overview of the Decommissioning and Low-Level Waste and Nuclear Materials Users Business Lines (Public Meeting) (Contact: Celimar Valentin-Rodriguez: 301-415-7124)

Additional Information: The public is invited to attend the Commission's meeting live by webcast at the Web address— https://video.nrc.gov/. For those who would like to attend in person, note that all visitors are required to complete the NRC Self-Health Assessment and Certification of Vaccination forms. Visitors who certify that they are not fully vaccinated or decline to complete the certification must have proof of a negative Food and Drug Administration-approved polymerase chain reaction (PCR) or Antigen (including rapid tests) COVID-19 test specimen collection from no later than the previous 3 days prior to entry to an NRC facility. The forms and additional information can be found here https://www.nrc.gov/about-nrc/covid-19/guidance-for-visitors-to-nrc-facilities.pdf.

Week of January 31, 2022—Tentative

There are no meetings scheduled for the week of January 31, 2022.

CONTACT PERSON FOR MORE INFORMATION: For more information or to verify the status of meetings, contact Wesley Held at 301-287-3591 or via email at Wesley.Held@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555, at 301-415-1969, or by email at Tyesha.Bush@nrc.gov or Betty.Thweatt@nrc.gov.

The NRC is holding the meetings under the authority of the Government in the Sunshine Act, 5 U.S.C. 552b.

Dated: December 22, 2021.
For the Nuclear Regulatory Commission.
Sergio E. Gonzalez,
Information Management Specialist, Office of the Secretary.

[FR Doc. 2021-28146 Filed 12-22-21; 11:15 am]

BILLING CODE 7590-01-P